DEPARTMENT OF AGRICULTURE

Office of the Secretary

7 CFR Part 9

[Docket ID: FSA-2020-0004]

Notice of Funding Availability; Coronavirus Food Assistance Program (CFAP) Additional Eligible Commodities

AGENCY: Office of the Secretary, USDA.

ACTION: Notification of funding availability.

SUMMARY: The Coronavirus Food Assistance Program (CFAP) helps agricultural producers impacted by the effects of the COVID-19 outbreak. As provided in the CFAP regulation, this document announces additional commodities that have been determined to be eligible for CFAP assistance. USDA carefully reviewed the additional information provided in the comments to develop the list of additional commodities. Additional review is ongoing, which will result in a subsequent announcement.

DATES: Effective: July 10, 2020.

FOR FURTHER INFORMATION CONTACT: William L. Beam, telephone (202) 720-3175; email Bill.Beam@usda.gov. Persons with disabilities or who require alternative means for communication should contact the USDA Target Center at (202) 720-2600.

SUPPLEMENTARY INFORMATION: The Coronavirus Food Assistance Program (CFAP) helps agricultural producers impacted by the effects of the COVID-19 outbreak. The CFAP regulations are in 7 CFR part 9. The CFAP regulations provide the general eligibility requirements, the application process, and payment calculation information. The CFAP rule was published in the Federal Register on May 21, 2020 (85 FR 30825-30835) and a correction published in the Federal Register on June 12, 2020 (85 FR 35799-35800).

This document announces additional agricultural commodities that are eligible for CFAP and the payment rates for each commodity. In the interest of announcing additional commodities as eligible for CFAP as quickly as possible, to ensure that eligible producers can apply for and receive their payments as soon as possible, we are issuing more than one document in response to the comments. This document includes those commodities for which we could make decisions quickly. For other commodities, we are reviewing additional information and will provide the responses to the comments on those commodities in a subsequent announcement. Our goal is also to make the subsequent announcement as soon after the publication of this document as possible.

USDA requested information to evaluate whether additional commodities suffered losses that should result in eligibility for CFAP. The CFAP notification that requested information from the public for additional commodities that suffered losses was published in the Federal Register on May 22, 2020 (85 FR 31062-31065) and a correction was published on June 12, 2020, (85 FR 30812). USDA specifically requested information in order to evaluate whether additional commodities suffered losses that should result in eligibility for CFAP. Comments were submitted through June 22, 2020, and USDA continues to review the information provided in the comments. USDA received a total of 1,740 comments. At the time of this document USDA had reviewed about half of the comments received. To expedite payment to growers, USDA is making recommendations for payment in this document based on this subset of comments and further review of market news data. Additional commodities, if they meet eligibility criteria, would be added later.

Comment: Individuals and organizations requested that a number of commodities be added to the list of eligible specialty crops. Commenters stated that these commodities experienced price decreases as much as other commodities originally included in the final rule and should be added to the list of eligible commodities to receive payments. Other commenters mentioned that certain commodities could benefit even when no price decrease was identified because they were affected by market chain disruptions. Some comments included sufficient data for USDA to make a determination. USDA reviewed Market News data and found data for some commodities listed by commenters. Accordingly, we are adding the following commodities, based on comments and Market News data: Alfalfa Sprouts, Anise, Arugula, Basil, Bean Sprouts, Beets, Blackberries, Brussel Sprouts, Celeriac (celery root), Chives, Cilantro, Coconuts, Collard Greens, Dandelion Greens, Greens (others not listed separately), Guava, Kale Greens, Lettuce Boston, Lettuce Green Leaf, Lettuce Lolla Rossa, Lettuce Oak Leaf Green, Lettuce Oak Leaf Red, Lettuce Red Leaf, Marjoram, Mint, Mustard, Okra, Oregano, Parsnips, Passion Fruit, Peas Green, Pineapples, Pistachios, Radicchio, Rosemary, Sage, Savory, Sorrel, Sugarcane (table), Swiss Chard, Thyme, Turnip Tops Green.

Response: We carefully analyzed the Market News data for the requested commodities that we evaluated and have determined that these additional commodities are eligible for CFAP, as requested by the commenters. The table below at the end of this document provides the payment rates by commodity.

Comment: A few commenters stated that USDA had miscalculated price decreases for commodities such as blueberries. The commenter ran the market news reports and came up with a different conclusion than the original data included in the May 21, 2020, final rule. Commenters also provided additional industry price information for potatoes and apples and requested that potatoes be separated between fresh, fresh russet, processed, and seed potatoes.

Response: While running reports for the new commodities requested, USDA found some inconsistencies in data points. USDA is correcting the regulation in 7 CFR part 9 in a final rule correction published in the Federal Register to eliminate these errors by adding eligibility for 5 commodities under sales losses. The commodities are: Blueberries, garlic, raspberries, tangerines and taro.

While doing this review USDA also found that two commodities no longer qualify for the sales losses category and is deleting their availability for this category. The two commodities are: peaches and rhubarb. The corrected payment rates for these commodities are listed in the rule correction.

USDA also reviewed commenters information on apples and potatoes, including separating potatoes into fresh, processed, and seed. USDA agrees with commenters data and is providing corrected payment rates for these commodities in the rule correction. USDA is also correcting payment rates for apples, artichokes, asparagus, blueberries, cantaloupes, cucumbers, garlic, kiwifruit, mushrooms, papaya, peaches, potatoes, raspberries, rhubarb, tangerines, and taro in the rule.

Payment Rates for Specialty Crops
[By commodity]
Commodity | CARES Act payment rate for sales losses ($/lb) | CARES Act payment rate for product that left the farm but spoiled due to loss of marketing channel ($/lb) | CCC payment rate ($/lb)
Alfalfa Sprouts |  | $8.14 | $1.59
Anise | $0.88 | 0.81 | 0.16
Arugula |  | 4.64 | 0.91
Basil | 0.30 | 1.65 | 0.32
Bean Sprouts |  | 0.26 | 0.05
Beets |  | 0.30 | 0.06
Blackberries | 1.72 | 2.11 | 0.41
Brussels Sprouts | 0.26 | 0.34 | 0.07
Celeriac (Celery Root) |  | 0.52 | 0.10
Chives |  | 1.32 | 0.26
Cilantro | 0.19 | 0.23 | 0.05
Coconuts |  | 0.25 | 0.05
Collard Greens | 0.04 | 0.21 | 0.04
Dandelion Greens | 0.06 | 0.26 | 0.05
Greens (others not listed) | 0.08 | 0.16 | 0.03
Guava | 1.52 | 1.73 | 0.34
Kale Greens |  | 0.22 | 0.04
Lettuce, Boston | 0.09 | 0.34 | 0.07
Lettuce, Green Leaf | 0.44 | 0.60 | 0.12
Lettuce, Lolla Rossa |  | 1.69 | 0.33
Lettuce, Oak Leaf—Green |  | 1.69 | 0.33
Lettuce, Oak Leaf—Red |  | 1.69 | 0.33
Lettuce, Red Leaf | 0.42 | 0.60 | 0.12
Marjoram | 1.06 | 1.42 | 0.28
Mint |  | 7.47 | 1.46
Mustard |  | 0.21 | 0.04
Okra | 0.31 | 0.46 | 0.09
Oregano |  | 1.22 | 0.24
Parsnips | 0.06 | 0.40 | 0.08
Passion Fruit | 0.89 | 3.21 | 0.63
Peas Green | 0.10 | 0.36 | 0.07
Pineapples |  | 0.23 | 0.04
Pistachios |  | 0.74 | 0.14
Radicchio |  | 0.72 | 0.14
Rosemary |  | 2.60 | 0.51
Sage | 0.72 | 3.06 | 0.60
Savory |  | 0.62 | 0.12
Sorrel |  | 2.85 | 0.56
Sugarcane, table |  | 0.14 | 0.03
Swiss Chard |  | 0.25 | 0.05
Thyme |  | 2.63 | 0.51
Turnip Tops Greens |  | 0.19 | 0.04

The complete list of all eligible specialty crops and payment rates is available at https://www.farmers.gov/cfap/specialty. USDA is still evaluating comments and will issue another document with additional determinations and payment rates.

The correction in the payment rates and the resulting changes in the eligibility for specific types of payments per commodity will not change CFAP costs.

Stephen L. Censky,
Vice Chairman, Commodity Credit Corporation, and Deputy Secretary, U.S. Department of Agriculture.

[FR Doc. 2020-14854 Filed 7-9-20; 8:45 am]

BILLING CODE P